DEPARTMENT OF HEALTH AND HUMAN SERVICES

Substance Abuse and Mental Health Services Administration

Notice of a Meeting

Pursuant to Public Law 92-463, notice is hereby given of a meeting of the Substance Abuse and Mental Health Services Administration (SAMHSA) National Advisory Council in September 2000.

The SAMHSA National Advisory Council meeting will be open and will include a follow up to the May 12 SAMHSA National Advisory Council Meeting; a discussion concerning SAMHSA's budget; a report on recently released results from the National Household Survey on Drug Abuse; a panel discussion on SAMHSA's mental health and substance abuse data systems; and a discussion on SAMHSA Centers' Technical Assistance Activities and Funding. Other significant issues to be discussed with the Council will be SAMHSA's Managed Care Initiatives and the Health Insurance Portability and Accountability Act and its impact on substance abuse and mental health programs. In addition, there will be reports by the Council's workgroups on co-occurring addictive and mental disorders, quality care, data, HIV/AIDS, children, communication and parity.

Attendance by the public will be limited to space available. Public comments are welcome. Please communicate with the individual listed as contact below to make arrangements to comment or to request special accommodations for persons with disabilities. Substantive program information, a summary of the meeting, and a roster of Council members may be obtained from the contact whose name and telephone number is listed below.

Committee Name: SAMHSA National Advisory Council.

Date/Time: Thursday, September 14, 2000, 9:00 a.m. to 4:40 p.m. (Open); Friday, September 15, 2000, 9:00 a.m. to 12:30 p.m. (Open).

Place: Bethesda Marriott Hotel, 5151 Pook's Hill Road, Bethesda, Maryland 20814.

Contact: Toian Vaughn, Executive Secretary, 5600 Fishers Lane, Parklawn Building, Room 17-89, Rockville, MD 20857, Telephone: (301) 443-4266; FAX: (301) 443-1587 and e-mail: TVaughn@samhsa.gov.

Dated: August 23, 2000.
Toian Vaughn,
Committee Management Officer, SAMHSA.

[FR Doc. 00-22025 Filed 8-28-00; 8:45 am]

BILLING CODE 4162-20-P